DEPARTMENT OF THE INTERIOR

Bureau of Reclamation

Rio Grande and Low Flow Conveyance Channel Between San Acacia Diversion Dam, New Mexico, and the Narrows of Elephant Butte Reservoir, New Mexico

AGENCY: Bureau of Reclamation, Interior.

ACTION: Notice of cancellation.

SUMMARY: The Bureau of Reclamation is canceling plans to prepare a final environmental impact statement (EIS) on the environmental impacts of proposed modifications to the main channel of the Rio Grande and Low Flow Conveyance Channel system. The reason for canceling is that seven years have elapsed since publication of the draft EIS and the recently issued final EIS and Record of Decision for the Upper Rio Grande Basin Water Operations Review considers the impacts of continuing the operation of the Low Flow Conveyance Channel as a passive drain with no diversion from the Rio Grande.

FOR FURTHER INFORMATION CONTACT: Lori Robertson, Bureau of Reclamation, Albuquerque Area Office, 55 Broadway NE., Suite 100, Albuquerque, New Mexico 87102; e-mail: lrobertson@uc.usbr.gov; telephone (505) 462-3594.

SUPPLEMENTARY INFORMATION: On December 11, 1996, the Bureau of Reclamation published a Notice of Intent to prepare a draft EIS in the Federal Register. The draft EIS was filed with the Environmental Protection Agency on September 8, 2000. The purpose of the document was to analyze the environmental impacts of proposed modifications to the main channel for the Rio Grande and Low Flow Conveyance Channel system. The proposed modifications were to be located downstream from San Marcial, New Mexico. The proposed channel system realignment would have allowed for efficient conveyance of water to Elephant Butte Reservoir, effective valley drainage, and effective sediment management. The proposed changes would have also promoted the protection and restoration of the riparian and riverine ecosystem in the project area.

Dated: August 16, 2007.
Dave Sabo,
Acting Regional Director—UC Region, Bureau of Reclamation.

[FR Doc. E7-17838 Filed 9-10-07; 8:45 am]

BILLING CODE 4310-MN-P